GENERAL SERVICES ADMINISTRATION

[Notice-MA-2017-05; Docket No. 2017-0002; Sequence 15]

Maximum Per Diem Reimbursement Rates for the Continental United States (CONUS)

AGENCY: Office of Government-wide Policy (OGP), General Services Administration (GSA).

ACTION: Notice of GSA Per Diem Bulletin FTR 18-01, Fiscal Year (FY) 2018 CONUS per diem reimbursement rates.

SUMMARY: GSA's Fiscal Year (FY) 2018 per diem reimbursement rates review has resulted in lodging and meal allowance changes for certain locations within CONUS to provide for reimbursement of Federal employees' subsistence expenses while on official travel.

DATES: Applicability: This notice applies to travel performed on or after October 1, 2017, through September 30, 2018.

FOR FURTHER INFORMATION CONTACT: For clarification of content, contact Ms. Jill Denning, Office of Government-wide Policy, Office of Asset and Transportation Management, at 202-208-7642, or by email at travelpolicy@gsa.gov. Please cite Notice of GSA Per Diem Bulletin FTR 18-01.

SUPPLEMENTARY INFORMATION: Background: The CONUS per diem reimbursement rates prescribed in Bulletin 18-01 may be found at www.gsa.gov/perdiem. GSA bases the maximum lodging allowance rates on the average daily rate that the lodging industry reports to an independent organization. If a maximum lodging allowance rate and/or a meals and incidental expenses (M&IE) per diem reimbursement rate is insufficient to meet necessary expenses in any given location, Federal executive agencies can request that GSA review that location. Please review numbers six and seven of GSA's per diem Frequently Asked Questions, at www.gsa.gov/perdiemfaqs, for more information on the special review process. In addition, the Federal Travel Regulation (FTR) allows for actual expense reimbursement as provided in §§ 301-11.300 through 301-11.306. For FY 2018, no new non-standard area locations were added. The standard CONUS lodging allowance rate will increase from $91 to $93. The M&IE reimbursement rate tiers were not revised for FY 2018.

GSA issues and publishes the CONUS per diem rates, formerly published in Appendix A to 41 CFR Chapter 301, solely on the Internet at www.gsa.gov/perdiem. GSA also now solely publishes the M&IE meal breakdown table, which is used when employees are required to deduct meals from their M&IE reimbursement pursuant to FTR § 301-11.18, at www.gsa.gov/mie.

This process, implemented at 68 FR 22314, on April 28, 2003, for per diem reimbursement rates, and in 2015 for the M&IE breakdown table, ensures more timely changes in per diem reimbursement rates established by GSA for Federal employees on official travel within CONUS. Notices published periodically in the Federal Register, such as this one, now constitute the only notification of revisions in CONUS per diem reimbursement rates to agencies other than the changes posted on the GSA Web site.

Dated: August 14, 2017.
Allison Fahrenkopf Brigati,
Associate Administrator, Office of Government-wide Policy, General Services Administration.

[FR Doc. 2017-17677 Filed 8-21-17; 8:45 am]

BILLING CODE 6820-14-P